DEPARTMENT OF TRANSPORTATION

Surface Transportation Board

[STB Finance Docket No. 35121]

Burlington Shortline Railroad, Inc., d/b/a Burlington Junction Railway—Acquisition and Operation Exemption—BNSF Railway Company

Burlington Shortline Railroad, Inc., d/b/a Burlington Junction Railway (BJRY), a Class III rail carrier, has filed a verified notice of exemption under 49 CFR 1150.41 to acquire and operate, pursuant to an agreement with BNSF Railway Company (BNSF), approximately 2.5 miles of BNSF railroad properties consisting of certain trackage, real properties, and railroad operating rights. The railroad properties consist of two tracks, numbered 3905 and 3930, connecting to a switch at BNSF's main rail line at milepost 39 in Montgomery, IL. There are no mileposts on the subject line.

The transaction is scheduled to be consummated on April 19, 2008 (more than 30 days after the notice of exemption was filed).

BJRY certifies that its projected annual revenues as a result of this transaction will not exceed those that qualify it as a Class III rail carrier and will not exceed $5 million.

Pursuant to the Consolidated Appropriations Act, 2008, Public Law 110-161, 193, 121 Stat. 1844 (2007), nothing in this decision authorizes the following activities at any solid waste rail transfer facility: collecting, storing or transferring solid waste outside of its original shipping container; or separating or processing solid waste (including baling, crushing, compacting and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions to stay must be filed no later than April 10, 2008 (at least 7 days before the exemption becomes effective).

An original and 10 copies of all pleadings, referring to STB Finance Docket No. 35121, must be filed with the Surface Transportation Board, 395 E Street, SW., Washington, DC 20423-0001. In addition, a copy of each pleading must be served on John D. Heffner, John D. Heffner, PLLC, 1750 K Street, NW., Suite 350, Washington, DC 20006.

Board decisions and notices are available on our Web site at http://www.stb.dot.gov.

Decided: March 26, 2008.
By the Board, David M. Konschnik, Director, Office of Proceedings.
Anne K. Quinlan,
Acting Secretary.

[FR Doc. E8-6844 Filed 4-2-08; 8:45 am]

BILLING CODE 4915-01-P